DEPARTMENT OF ENERGY

Federal Energy Regulatory Commission

[Project No. 8093-023]

Methuen Falls Hydroelectric Company; Notice of Application Tendered for Filing With the Commission and Soliciting Additional Study Requests and Establishing Procedural Schedule for Relicensing and a Deadline for Submission of Final Amendments

Take notice that the following hydroelectric application has been filed with the Commission and is available for public inspection.

a. Type of Application: Subsequent Minor License.

b. Project No.: 8093-023.

c. Date filed: February 28, 2024.¹

¹ On March 11, 2024, Methuen Hydro resubmitted the application to correctly identify and designate the single-line electrical diagram as critical energy and electric infrastructure information.

d. Applicant: Methuen Falls Hydroelectric Company (Methuen Hydro).

e. Name of Project: Methuen Falls Hydroelectric Project.

f. Location: On the Spicket River in Essex County, Massachusetts.

g. Filed Pursuant to: Federal Power Act 16 U.S.C. 791(a)-825(r).

h. Applicant Contact: Kevin Olson, Olson Electric Development Company, Inc., 30r Hampshire Street, Methuen, MA 01844; (978) 975-0400; email at kevin@olsonelectric.com.

i. FERC Contact: Bill Connelly at (202) 502-8587, or william.connelly@ferc.gov.

j. Cooperating agencies: Federal, State, local, and Tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: April 29, 2024.²

² The Commission's Rules of Practice and Procedure provide that if a filing deadline falls on a Saturday, Sunday, holiday, or other day when the Commission is closed for business, the filing deadline does not end until the close of business on the next business day. 18 CFR 385.2007(a)(2). Because the 60-day filing deadline falls on a Sunday (i.e., April 28, 2024), the filing deadline is extended until the close of business on Monday, April 29, 2024.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, Maryland 20852. All filings must clearly identify the project name and docket number on the first page: Methuen Falls Hydroelectric Project (P-7883-020).

m. The application is not ready for environmental analysis at this time.

n. The existing Methuen Falls Hydroelectric Project consists of the following: (1) a 20-foot-high stone masonry dam with two hydraulic sluice gates and a stone masonry spillway topped with 3-foot-high wooden flashboards with a crest elevation of 104.4 feet National Geodetic Vertical Datum of 1929 (NGVD 29) at the top of the flashboards; (2) an impoundment with a normal surface elevation of 104.4 feet NGVD 29; (3) an intake structure equipped with a trashrack and a headgate; (4) an underground penstock (4) a powerhouse with two Vertical Francis turbine-generator units with an authorized installed capacity of 357 kilowatts; (5) a 20-foot-long, 2-foot-wide tailrace; (6) two generator leads; (7) a transformer; (8) a 3.74-kV, 250-foot-long transmission line; and (9) appurtenant facilities.

The project operates in a run-of-river mode with a minimum flow of 3 cubic feet per second (cfs) to the bypassed reach. The project has an average annual generation of 1,000 megawatt-hours.

Methuen Hydro is proposing to continue run-of-river operation, increase the minimum flow from 3 cfs to 16 cfs, and install upstream and downstream passage for American eels.

o. Copies of the application may be viewed on the Commission's website at http://www.ferc.gov using the “eLibrary” link. Enter the docket number excluding the last three digits in the docket number field to access the document (P-8093). For assistance, contact FERC Online Support at FERCOnlineSupport@ferc.gov or call tollfree, (866) 208-3676 or (202) 502-8659 (TTY).

You may also register online at http://www.ferc.gov/docs-filing/esubscription.asp to be notified via email of new filings and issuances related to this or other pending projects. For assistance, contact FERC Online Support.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

p. Procedural schedule and final amendments: The application will be processed according to the following preliminary schedule. Revisions to the schedule will be made as appropriate.

Milestone | Target date
Issue Deficiency Letter (if necessary) | April 2024.
Request Additional Information | April 2024.
Issue Acceptance Letter | August 2024.
Issue Scoping Document 1 for comments | August 2024.
Request Additional Information (if necessary) | September 2024.
Issue Scoping Document 2 (if necessary) | November 2024.
Issue Notice of Ready for Environmental Analysis | November 2024.

Final amendments to the application must be filed with the Commission no later than 30 days from the issuance date of the notice of ready for environmental analysis.

Dated: March 12, 2024.
Debbie-Anne A. Reese,
Acting Secretary.

[FR Doc. 2024-05728 Filed 3-18-24; 8:45 am]

BILLING CODE 6717-01-P